DEPARTMENT OF THE INTERIOR

Fish and Wildlife Service

[FWS-R3-ES-2010-N031; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before March 31, 2010.

ADDRESSES: Send written comments by U.S. mail to the Regional Director, Attn: Peter Fasbender, U.S. Fish and Wildlife Service, Ecological Services, 1 Federal Drive, Fort Snelling, MN 55111-4056; or by electronic mail to permitsR3ES@fws.gov.

FOR FURTHER INFORMATION CONTACT: Peter Fasbender, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE006012.

Applicant: Steven Taylor, Center for Biodiversity, Illinois Natural History Survey, Champaign, Illinois.

The applicant requests a permit renewal to take (capture and release, collect for scientific study and for propagation) Illinois cave amphipod (Gammarus acherondytes) in Monroe and St. Clair Counties, Illinois. Activities are proposed for life history analysis and population assessment work aimed at enhancement of the survival of the species in the wild.

Permit Application Number: TE106217.

Applicant: Toledo Zoological Society, Toledo, Ohio.

The applicant requests a permit renewal to take (capture and hold) Mitchell's satyr butterflies (Neonympha mitchelli mitchelli) for captive propagation and release into the wild. Activities are proposed in the interest of conservation and recovery of the species and enhancement of the survival of the species in the wild.

Permit Application Number: TE130900

Applicant: Enviroscience, Inc., Blacklick, Ohio.

The applicant requests a permit renewal to take (capture and release) the following unionid species: Clubshell (Pleurobema clava), Northern riffleshell (Epioblasma torulosa rangiana), Orange-footed pimpleback pearlymussel (Plethobasus cooperianus), Pink mucket pearlymussel (Lampsilis orbiculata), Rough pigtoe (Pleurobema plenum), Purple cat's paw pearlymussel (Epioblasma obliquata obliquata), White cat's paw pearlymussel (Epioblasma obliquata perobliqua), Fanshell (Cyprogenia stegaria), Fat pocketbook (Potamilus capax), Higgins' eye pearlymussel (Lampsilis higginsi), Winged mapleleaf (Quadrula fragosa), White wartyback (Plethobathus cicatricosus), Fat three-ridge (Amblema neislerii), Chipola slabshell (Elliptio chipolaensis), Purple bankclimber (Elliptoideus sloatianus), Upland combshell (Epioblasma metrastriata), Southern acornshell (Epioblasma othcaloogeniss), Fine-lined pocketbook (Lampsilis altilis), Shiny-rayed pocketbook (Lampsilis subangulata), Alabama moccasinshell (Medionidus acutissimus), Coosa moccasinshell (Medionidus parvulus), Gulf moccasinshell (Medionidus penicillatus), Ochlockonee moccasinshell (Medionidus simpsonianus), Southern clubshell (Pleurobema decisum), Southern pigtoe (Pleurobema georgianum), Ovate clubshell (Pleurobema perovatum), Triangular kidneyshell (Ptychobrachus greeni), Oval pigtoe (Pleurobema pyriforme) and the following fish species: Shortnose sturgeon (Acipenser brevirostrum), Blue shiner (Cyprinella caerulea), Cherokee darter (Etheostoma scotti), Etowah darter (Etheostoma etowahae), Amber darter (Percina antesella), Goldline darter (Percina aurolineata), Conasauga logperch (Percina jenkinsi), and Snail darter (Percina tanasi) in the States of Illinois, Indiana, Iowa, Michigan, Minnesota, Missouri, Ohio, Wisconsin, Kentucky, Florida and Georgia. Proposed activities are for the enhancement of survival of the species in the wild.

Permit Application Number: TE02344A

Applicant: Mainstream Commercial Divers, Inc., Murray, Kentucky.

The applicant requests a permit renewal to take (capture and release) the following unionid species: Clubshell, Northern riffleshell, Orangefoot pimpleback pearlymussel, Pink mucket pearlymussel, Rough pigtoe, Purple cat's paw pearlymussel, White cat's paw pearlymussel, Fanshell, Fat pocketbook, Higgins' eye pearlymussel, Winged mapleleaf, and Scaleshell (Leptodea leptodon) in the States of Illinois, Indiana, Iowa, Missouri, Ohio, Wisconsin, Alabama, Arkansas, Florida, Georgia, Kentucky, Mississippi, Tennessee, Pennsylvania, and West Virginia. Proposed activities are for the enhancement of survival of the species in the wild.

Permit Application Number: TE02350A.

Applicant: J.F. New Associates, Inc., Walkerton, Indiana.

The applicant requests a permit to take (capture and release) Indiana bats (Myotis sodalis) and gray bats (Myotis grisescens) throughout the States of Indiana, Ohio, Michigan, Minnesota, Illinois, Wisconsin, Iowa, Missouri, and Kentucky to document presence/absence of the species and to conduct habitat use assessments. Proposed activities are aimed at enhancement of survival of the species in the wild.

Permit Application Number: TE02360A.

Applicant: Theresa Sydney Burke, Beaver, West Virginia.

The applicant requests a permit renewal to take (capture and release) Indiana bats, gray bats, and Virginia big-eared bats (Corynorhinus townsendii virginianus) throughout the range of the species in Alabama, Arkansas, Connecticut, Delaware, Georgia, Illinois, Indiana, Iowa, Kentucky, Maryland, Massachusetts, Michigan, Mississippi, Missouri, New Hampshire, New Jersey, New York, North Carolina, Ohio, Pennsylvania, Rhode Island, South Carolina, Tennessee, Vermont, Virginia, West Virginia, and Wisconsin. Proposed activities are aimed at enhancement of survival of the species in the wild.

Permit Application Number: TE02365A.

Applicant: Lynn W. Robbins, Missouri State University, Springfield, Missouri.

The applicant requests a permit renewal to take (capture and release; collect tissue samples) Indiana bats and gray bats throughout the range of the species in Iowa, Kansas, Missouri, Nebraska, and Ohio. Proposed activities are aimed at enhancement of survival of the species in the wild.

Permit Application Number: TE02373A

Applicant: Environmental Solutions and Innovations, Inc., Cincinnati, Ohio.

The applicant requests a permit renewal with amendment to take (capture and release) Indiana bats, gray bats, Virginia big-eared bats, Ozark big-eared bats (Corynorhinus townsendii ingens); to take (harass) running buffalo clover (Trifolium stoloniferum) and Northeastern bulrush (Scirpus ancistrochaetus), to take (capture and release) Cumberland elktoe (Alasmidonta atropurpurea), dwarf wedgemussel (Alasmidonta heterodon), Fanshell, Dromedary pearlymussel (Dromus dromas), Cumberland combshell (Epioblasma brevidens), oyster mussel (E. capsaeformis), Curtis pearlymussel (E. florentina curtisii), yellow blossom (E. florentina florentina), tan riffleshell (E. florentina walkeri), purple cat's paw, white cat's paw, northern riffleshell, tubercled-blossom pearlymussel (E. torulosa torulosa), cracking pearlymussel (Hemistena lata), pink mucket, Arkansas fatmucket (Lampsilis powellii), scaleshell, ring pink (Obovaria retusa), Littlewing pearlymussel (Pegias fibula), white wartyback pearlymussel, orangefoot pimpleback, clubshell, James spiny mussel (Pleurobema collina), rough pigtoe, fat pocketbook, rough rabbitsfoot (Quadrula cylindrical strigillata), winged mapleleaf, and Cumberland bean (Villosa travilis) mussels; and to take (capture and release) diamond darter (Crystallaria cincotta), blue shiner, Maryland darter (Etheostoma sellare), Roanoke logperch (Percina rex) and blackside dace (Phoxinus cumberlandensis) in the States of Alabama, Arkansas, Connecticut, Delaware, Florida, Georgia, Illinois, Indiana, Iowa, Kansas, Kentucky, Maryland, Massachusetts, Michigan, Mississippi, Missouri, New Hampshire, New Jersey, Nebraska, New York, North Carolina, Ohio, Oklahoma, Pennsylvania, Rhode Island, South Carolina, Tennessee, Vermont, Virginia, West Virginia, and Wisconsin. Proposed activities are for the purpose of determining presence or absence of the species, population monitoring, habitat assessment, and evaluation of potential project impacts. Activities are aimed at the enhancement of survival of the species in the wild.

Permit Application Number: TE02378A.

Applicant: U.S. Army Corps of Engineers, St. Paul District, St. Paul, Minnesota.

The applicant requests a permit renewal to take (capture and release) Higgins' eye pearlymussel in the Mississippi, St. Croix, Minnesota, and Wisconsin Rivers in Minnesota, Wisconsin, Iowa, Illinois, and Missouri. Proposed activities include surveys to determine presence/absence of the species and to assess impacts of proposed projects. Proposed activities are aimed at the enhancement of survival of the species in the wild.

Permit Application Number: TE02381A.

Applicant: Mark Hove, Macalester College, St. Paul, Minnesota.

The applicant requests a permit renewal to take (capture and release; potential collection of glochidia during fish-host study; capture and relocate) winged mapleleaf and Higgins eye pearlymussels in the St. Croix, Mississippi, Chippewa, and Zumbro Rivers in Minnesota and Wisconsin. Proposed activities are aimed at enhancement of survival of the species in the wild.

Permit Application Number: TE224720-1.

Applicant: ABR, Inc., Environmental Research & Services, Forest Grove, Oregon.

The applicant requests a permit amendment to permit number TE224720 which authorizes take (harass through capture and release; collection of hair and tissue samples) of Indiana bats and gray bats. Applicant requests an amendment of the geographic scope of the permit to include the states within Region 5 of the Service: Connecticut, Delaware, Maine, Maryland, Massachusetts, Pennsylvania, New Hampshire, New Jersey, New York, Rhode Island, Vermont, Virginia, and West Virginia. Proposed activities under this permit application include surveys to document species' presence or absence in areas proposed for wind-energy development, studies to document habitat use, collection of echolocation data and hair/tissue sampling for scientific research. The applicant's proposed activities are aimed at enhancement of the survival of the species in the wild.

Permit Application Number: TE839777-11.

Applicant: Don Helms, Helms & Associates, Bellevue, Iowa.

The applicant requests a permit amendment to take (capture and release; capture and relocate) Higgins' eye pearlymussels and scaleshell mussels throughout the State of South Dakota. Proposed activities are for the enhancement of survival of the species in the wild.

Permit Application Number: TE02560A.

Applicant: Timothy C. Carter, Ball State University, Muncie, Indiana.

The applicant requests a permit renewal and amendment to take (capture and release; collect tissue samples) Indiana bats and gray bats throughout the States of Georgia, Illinois, Indiana, Iowa, Michigan, Missouri, Ohio, and Wisconsin. Proposed activities are for the enhancement of survival of the species in the wild.

Permit Application Number: TE02651A.

Applicant: The Ohio Department of Transportation, Columbus, Ohio.

The applicant requests a permit renewal to take (capture and release) Indiana bats and American burying beetles (Nicrophorus americanus) within the State of Ohio. Proposed activities to determine presence/absence of the species, to assess habitat use and monitor populations are for the enhancement of survival of the species in the wild.

Public Comments

We seek public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Dated: February 19, 2010.
Lynn M. Lewis,
Assistant Regional Director, Ecological Services, Region 3.

[FR Doc. 2010-4166 Filed 2-26-10; 8:45 am]

BILLING CODE 4310-55-P